DEPARTMENT OF ENERGY

Federal Energy Regulatory Commission

Combined Notice of Filings #1

October 5, 2010.

Take notice that the Commission received the following electric corporate filings:

Docket Numbers: EC11-1-000.

Applicants: Broad River Energy LLC, Broad River OL-1, LLC, Broad River OL-2, LLC, Broad River OL-3, LLC, Broad River OL-4, LLC, South Point Energy Center, LLC, South Point OL-1, LLC, South Point OL-2, LLC, South Point OL-3, LLC, South Point OL-4, LLC, Calpine BRSP, LLC.

Description: Calpine BRSP, LLC, et al. Joint Application For Approval Under Section 203 of the FPA.

Filed Date: 10/04/2010.

Accession Number: 20101004-5212.

Comment Date: 5 p.m. Eastern Time on Monday, October 25, 2010.

Take notice that the Commission received the following exempt wholesale generator filings:

Docket Numbers: EG11-1-000.

Applicants: Ashtabula Wind III, LLC.

Description: Notice of Self-Certification of Exempt Wholesale Generator Status of Ashtabula Wind III, LLC.

Filed Date: 10/01/2010.

Accession Number: 20101001-5165.

Comment Date: 5 p.m. Eastern Time on Friday, October 22, 2010.

Docket Numbers: EG11-2-000.

Applicants: Iberdrola Renewables, Inc.

Description: Self-Certification of EG of Iberdrola Renewables, Inc. for Blue Creek Wind LLC.

Filed Date: 10/01/2010.

Accession Number: 20101001-5173.

Comment Date: 5 p.m. Eastern Time on Friday, October 22, 2010.

Take notice that the Commission received the following electric rate filings:

Docket Numbers: ER02-2263-012.

Applicants: Southern California Edison Company.

Description: Change in status report of Southern California Edison Company.

Filed Date: 09/30/2010.

Accession Number: 20100930-5508.

Comment Date: 5 p.m. Eastern Time on Thursday, October 21, 2010.

Docket Numbers: ER06-613-010.

Applicants: ISO New England Inc., New England Power Pool

Description: Ninth Compliance Report of ISO New England Inc. Regarding Forward Reserve Markets.

Filed Date: 10/01/2010.

Accession Number: 20101001-5215.

Comment Date: 5 p.m. Eastern Time on Friday, October 22, 2010.

Docket Numbers: ER07-1112-013; ER01-2765-029; ER02-2102-029; ER00-2885-030; ER03-1283-023; ER05-1232-026; ER07-1113-013; ER07-1116-012; ER07-1117-015; ER07-1356-015; ER07-1358-016; ER09-1141-009; ER09-609-006; ER07-1118-014.

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Vineland Energy LLC, Central Power & Lime LLC, Cedar Brakes II, L.L.C., J.P. Morgan Commodities Canada Corporation

Description: JPMorgan Sellers' Supplement to Notice of Non-Material Change in Status.

Filed Date: 10/01/2010.

Accession Number: 20101001-5321.

Comment Date: 5 p.m. Eastern Time on Friday, October 22, 2010.

Docket Numbers: ER07-1208-003; ER07-1222-002; ER07-1223-002; ER09-297-003; ER10-1017-001; ER10-1020-001; ER10-1078-001; ER10-1048-002; ER10-1079-001; ER10-1080-001; ER10-1081-001; ER10-1143-001; ER10-1145-001; ER10-75-001; ER10-87-001; ER07-1246-004; ER07-1202-004;

Applicants: Exelon New Boston LLC, Exelon Generating Company, LLC, Commonwealth Edison Company, PECO Energy Company, Wind Capital Holdings, LLC, CR Clearing, LLC, Cow Branch Wind Power LLC, JD WIND 4, LLC, Harvest WindFarm, LLC, Exelon West Medway LLC, Exelon Wyman LLC, Exelon Framingham LLC, Exelon New England Power Marketing, LP, Exelon Energy Company, Cassia Gulch Wind Park, Michigan Wind 1, LLC, Tuana Springs Energy, LLC.

Description: Notification of Change in Status Commonwealth Edison Company, et. al.

Filed Date: 10/01/2010.

Accession Number: 20101001-5328.

Comment Date: 5 p.m. Eastern Time on Friday, October 22, 2010.

Docket Numbers: ER10-622-002; ER99-845-020.

Applicants: Puget Sound Energy, Inc., Macquarie Energy LLC.

Description: Revisions to Triennial Updated Market Analysis by Puget Sound Energy, Inc. and Macquarie Energy LLC.

Filed Date: 10/04/2010.

Accession Number: 20101004-5214.

Comment Date: 5 p.m. Eastern Time on Monday, October 25, 2010.

Docket Numbers: ER10-1509-001.

Applicants: Louisville Gas and Electric Company.

Description: Louisville Gas and Electric Company submits tariff filing per 35: OATT Compliance Filing 10_04_10 to be effective 7/18/2010.

Filed Date: 10/04/2010.

Accession Number: 20101004-5197.

Comment Date: 5 p.m. Eastern Time on Monday, October 25, 2010.

Docket Numbers: ER10-1510-001.

Applicants: Kentucky Utilities Company.

Description: Kentucky Utilities Company submits tariff filing per 35: 10_04_10 KU OATT Concurrence Compliance Filing to be effective 7/18/2010.

Filed Date: 10/04/2010.

Accession Number: 20101004-5198.

Comment Date: 5 p.m. Eastern Time on Monday, October 25, 2010.

Docket Numbers: ER10-1563-001.

Applicants: California Independent System Operator Corporation.

Description: California Independent System Operator Corporation submits tariff filing per 35: 2010-10-04 CAISO's Baseline Electronic Tariff Compliance Filing to be effective 6/28/2010.

Filed Date: 10/04/2010.

Accession Number: 20101004-5195.

Comment Date: 5 p.m. Eastern Time on Monday, October 25, 2010.

Docket Numbers: ER10-2291-001.

Applicants: Westmoreland Partners.

Description: Westmoreland Partners submits tariff filing per 35: Baseline Market-Based Rate (Re-File) to be effective 9/20/2010.

Filed Date: 09/17/2010.

Accession Number: 20100917-5156.

Comment Date: 5 p.m. Eastern Time on Friday, October 8, 2010.

Docket Numbers: ER10-2778-001.

Applicants: Rainbow Energy Marketing Corp.

Description: Rainbow Energy Marketing Corp. submits tariff filing per 35: Rainbow Energy Marketing Amendment to Market-Based Rate Tariff to be effective 12/6/2010.

Filed Date: 10/05/2010.

Accession Number: 20101005-5060.

Comment Date: 5 p.m. Eastern Time on Tuesday, October 26, 2010.

Docket Numbers: ER10-2789-001.

Applicants: Rainbow Energy Ventures, LLC.

Description: Rainbow Energy Ventures, LLC submits tariff filing per 35: Rainbow Energy Ventures Amendment to Market-Based Rate Tariff to be effective 12/3/2010.

Filed Date: 10/04/2010.

Accession Number: 20101004-5199.

Comment Date: 5 p.m. Eastern Time on Monday, October 25, 2010.

Docket Numbers: ER10-3324-000.

Applicants: Indeck-Yerkes Limited Partnership.

Description: Indeck-Yerkes Limited Partnership submits tariff filing per 35.12: Indeck-Yerkes Limited Partnership, FERC Electric MBR Tariff No. 1 to be effective 9/30/2010.

Filed Date: 10/01/2010.

Accession Number: 20101001-5001.

Comment Date: 5 p.m. Eastern Time on Friday, October 22, 2010.

Docket Numbers: ER10-3325-000.

Applicants: SESCO CALISO.

Description: SESCO CALISO submits its baseline tariff filing to FERC Electric Tariff Schedule No. 1, First Revised Volume No 1, to be effective 9/30/2010.

Filed Date: 10/01/2010.

Accession Number: 20101001-5002.

Comment Date: 5 p.m. Eastern Time on Friday, October 22, 2010.

Docket Numbers: ER10-3326-000.

Applicants: SESCO Enterprises LLC.

Description: SESCO Enterprises LLC submits tariff filing per 35.12: SESCO Enterprises, LLC FERC Electric Tariff Schedule No. 1 to be effective 9/30/2010.

Filed Date: 10/01/2010.

Accession Number: 20101001-5003.

Comment Date: 5 p.m. Eastern Time on Friday, October 22, 2010.

Docket Numbers: ER10-3327-000.

Applicants: Jump Power LLC.

Description: Jump Power LLC submits tariff filing per 35.12: Jump Power, LLC, FERC Electric MBR Tariff No. 1 to be effective 9/30/2010.

Filed Date: 10/01/2010.

Accession Number: 20101001-5004.

Comment Date: 5 p.m. Eastern Time on Friday, October 22, 2010.

Docket Numbers: ER10-3328-000.

Applicants: SESCO Enterprises Canada Ltd.

Description: SESCO Enterprises Canada Ltd. submits tariff filing per 35.12: SESCO Enterprises Canada, Ltd., FERC Electric Tariff Schedule No. 1 to be effective 9/30/2010.

Filed Date: 10/01/2010.

Accession Number: 20101001-5005.

Comment Date: 5 p.m. Eastern Time on Friday, October 22, 2010.

Docket Numbers: ER10-3329-000.

Applicants: Round Rock Energy LP.

Description: Round Rock Energy LP submits tariff filing per 35.12: Round Rock Energy, LP FERC Electric Tariff Schedule No. 1 to be effective 9/30/2010.

Filed Date: 10/01/2010.

Accession Number: 20101001-5006.

Comment Date: 5 p.m. Eastern Time on Friday, October 22, 2010.

Docket Numbers: ER10-3330-000.

Applicants: Round Rock Energy LLC.

Description: Round Rock Energy LLC submits tariff filing per 35.12: Round Rock Energy, LLC FERC Electric Tariff Schedule No. 1 to be effective 9/30/2010.

Filed Date: 10/01/2010.

Accession Number: 20101001-5007.

Comment Date: 5 p.m. Eastern Time on Friday, October 22, 2010.

Docket Numbers: ER10-3331-000.

Applicants: West Oaks Energy NY/NE, LP.

Description: West Oaks Energy NY/NE, LP submits tariff filing per 35.12: West Oaks Energy NY/NE, LP, FERC Electric Tariff Schedule No. 1 to be effective 9/30/2010.

Filed Date: 10/01/2010.

Accession Number: 20101001-5008.

Comment Date: 5 p.m. Eastern Time on Friday, October 22, 2010.

Docket Numbers: ER10-3332-000.

Applicants: Sierra Pacific Power Company.

Description: Sierra Pacific Power Company submits tariff filing per 35.12: Concurrence-Transmission Capacity Use & Exchange Agreement to be effective 11/19/2010.

Filed Date: 10/01/2010.

Accession Number: 20101001-5012.

Comment Date: 5 p.m. Eastern Time on Friday, October 22, 2010.

Docket Numbers: ER10-3333-000.

Applicants: Commonwealth Edison Company, Commonwealth Edison Co. of Indiana, Inc.

Description: Report of ComEd, ComEd submits Cancellation of Interconnection Agreement with Power Partners Midwest.

Filed Date: 09/30/2010.

Accession Number: 20100930-5506.

Comment Date: 5 p.m. Eastern Time on Thursday, October 21, 2010.

Docket Numbers: ER10-3334-000.

Applicants: Sierra Pacific Power Company.

Description: Sierra Pacific Power Company request for cancellation of FERC Electric Tariff Volume No. 2 as part of the FERC Order 714 baseline filing.

Filed Date: 09/30/2010.

Accession Number: 20100930-5507.

Comment Date: 5 p.m. Eastern Time on Thursday, October 21, 2010.

Docket Numbers: ER10-3335-000.

Applicants: International Transmission Company.

Description: International Transmission Company submits a Notice of Cancellation of its Open Access Transmission Tariff to confirm the cancellation of the OATT effective 9/30/10.

Filed Date: 09/30/2010.

Accession Number: 20101001-0201.

Comment Date: 5 p.m. Eastern Time on Thursday, October 21, 2010.

Docket Numbers: ER10-3336-000.

Applicants: Michigan Electric Transmission Co., LLC.

Description: Michigan Electric Transmission Company, LLC submits a Notice of Cancellation of its Open Access Transmission Tariff to confirm the cancellation of the OATT effective 9/30/10.

Filed Date: 09/30/2010.

Accession Number: 20101001-0202.

Comment Date: 5 p.m. Eastern Time on Thursday, October 21, 2010.

Docket Numbers: ER10-3337-000.

Applicants: Ridgewind Power Partners, LLC.

Description: Application of Ridgewind Power Partners, LLC for Order Accepting Initial Market-Based Rate Tariff, Granting Certain Waivers and Blanket Approvals and Request for Expedited Consideration.

Filed Date: 09/30/2010.

Accession Number: 20101001-0203.

Comment Date: 5 p.m. Eastern Time on Thursday, October 21, 2010.

Docket Numbers: ER11-1-000.

Applicants: Duke Energy Carolinas, LLC.

Description: Duke Energy Carolinas, LLC submits tariff filing per 35: Order No. 739 Compliance Filing to be effective 9/24/2010.

Filed Date: 10/01/2010.

Accession Number: 20101001-5081.

Comment Date: 5 p.m. Eastern Time on Friday, October 22, 2010.

Docket Numbers: ER11-2-000.

Applicants: ISO New England Inc.

Description: ISO New England Inc. submits tariff filing per 35.13(a)(2)(iii) Schedule 24 Tariff Revisions to Comply with Order Nos. 676-E and 676-F to be effective 12/1/2010.

Filed Date: 10/01/2010.

Accession Number: 20101001-5082.

Comment Date: 5 p.m. Eastern Time on Friday, October 22, 2010.

Docket Numbers: ER11-3-000.

Applicants: California Independent System Operator Corporation.

Description: California Independent System Operator Corporation submits tariff filing per 35: 2010-10-01 CAISO's Notice of Termination of MSA with Corona to be effective 9/1/2010.

Filed Date: 10/01/2010.

Accession Number: 20101001-5090.

Comment Date: 5 p.m. Eastern Time on Friday, October 22, 2010.

Docket Numbers: ER11-4-000.

Applicants: Consolidated Edison Company of New York, Inc.

Description: Consolidated Edison Company of New York, Inc. submits tariff filing per 35: Compliance (ER10-2186) to be effective 10/1/2010.

Filed Date: 10/01/2010.

Accession Number: 20101001-5121.

Comment Date: 5 p.m. Eastern Time on Friday, October 22, 2010.

Docket Numbers: ER11-5-000.

Applicants: Great Bay Energy, LLC.

Description: Great Bay Energy, LLC submits tariff filing per 35.12: Great Bay Energy, LLC, FERC Electric Tariff Schedule No. 1 to be effective 9/30/2010.

Filed Date: 10/01/2010.

Accession Number: 20101001-5129.

Comment Date: 5 p.m. Eastern Time on Friday, October 22, 2010.

Docket Numbers: ER11-6-000.

Applicants: Great Bay Energy I LLC.

Description: Great Bay Energy I LLC submits tariff filing per 35.12: Great Bay Energy I, LLC, FERC Electric Tariff Schedule No. 1 to be effective 9/30/2010.

Filed Date: 10/01/2010.

Accession Number: 20101001-5131.

Comment Date: 5 p.m. Eastern Time on Friday, October 22, 2010.

Docket Numbers: ER11-7-000.

Applicants: Velocity American Energy Master I, LP.

Description: Velocity American Energy Master I, LP submits tariff filing per 35.12: Velocity American Energy Master I, LP FERC Electric Tariff Schedule No. 1 to be effective 9/30/2010.

Filed Date: 10/01/2010.

Accession Number: 20101001-5132.

Comment Date: 5 p.m. Eastern Time on Friday, October 22, 2010.

Docket Numbers: ER11-8-000.

Applicants: Southern Company Services, Inc.

Description: Southern Company Services, Inc.'s Annual Informational Filing Updating FERC Annual Charge and Attachment K Regional Transmission-Planning Cost Components under its OATT.

Filed Date: 10/01/2010.

Accession Number: 20101001-5232.

Comment Date: 5 p.m. Eastern Time on Friday, October 22, 2010.

Docket Numbers: ER11-9-000.

Applicants: El Paso Electric Company.

Description: Order No. 618 Filing of El Paso Electric Company to Reflect Updated Depreciation Rates in the Formula Rate of Rio Grande Electric Cooperative.

Filed Date: 10/01/2010.

Accession Number: 20101001-5236.

Comment Date: 5 p.m. Eastern Time on Friday, October 22, 2010.

Docket Numbers: ER11-10-000.

Applicants: Southwest Power Pool, Inc.

Description: Southwest Power Pool, Inc. submits tariff filing per 35.13(a)(2)(iii) 2021R1 and 2022R1 Kansas City Power and Light Company PTP to be effective 9/1/2010.

Filed Date: 10/01/2010.

Accession Number: 20101001-5239.

Comment Date: 5 p.m. Eastern Time on Friday, October 22, 2010.

Docket Numbers: ER11-11-000.

Applicants: Southwest Power Pool, Inc.

Description: Southwest Power Pool, Inc. submits tariff filing per 35.13(a)(2)(iii) 1641R4 Grand River Dam Authority NITSA and NOA to be effective 9/1/2010.

Filed Date: 10/01/2010.

Accession Number: 20101001-5244.

Comment Date: 5 p.m. Eastern Time on Friday, October 22, 2010.

Docket Numbers: ER11-12-000.

Applicants: PJM Interconnection, L.L.C.

Description: PJM Interconnection, L.L.C. submits tariff filing per 35.13(a)(2)(iii) PJM submits Marginal Loss Calculation Definitions to be effective 6/1/2012.

Filed Date: 10/01/2010.

Accession Number: 20101001-5289.

Comment Date: 5 p.m. Eastern Time on Friday, October 22, 2010.

Docket Numbers: ER11-13-000.

Applicants: Southwest Power Pool, Inc.

Description: Southwest Power Pool, Inc. submits tariff filing per 35: Order No. 676-E/F and 729 Compliance Filing to be effective 7/26/2010.

Filed Date: 10/01/2010.

Accession Number: 20101001-5290.

Comment Date: 5 p.m. Eastern Time on Friday, October 22, 2010.

Docket Numbers: ER11-14-000.

Applicants: Sierra Pacific Power Company.

Description: Sierra Pacific Power Company submits tariff filing per 35.12: Transmission Interconnection Agreement-Robinson Summit to be effective 12/1/2010.

Filed Date: 10/01/2010.

Accession Number: 20101001-5303.

Comment Date: 5 p.m. Eastern Time on Friday, October 22, 2010.

Docket Numbers: ER11-15-000.

Applicants: Midwest Independent Transmission System Operator, Inc.

Description: Midwest Independent Transmission System Operator, Inc. submits revisions to Attachment O transmission rate formula under the Open Access Transmission, Energy & Operating Reserve Markets Tariff, effective 12/1/10.

Filed Date: 10/04/2010.

Accession Number: 20101004-5000.

Comment Date: 5 p.m. Eastern Time on Monday, October 25, 2010.

Docket Numbers: ER11-16-000.

Applicants: Midwest Independent Transmission System Operator, Inc.

Description: Midwest Independent Transmission System Operator, Inc. submits tariff filing per 35.13(a)(2)(iii) 10-1-10 BREC Pricing Zone to be effective 12/1/2010.

Filed Date: 10/04/2010.

Accession Number: 20101004-5001.

Comment Date: 5 p.m. Eastern Time on Monday, October 25, 2010.

Docket Numbers: ER11-17-000.

Applicants: Nevada Power Company.

Description: Nevada Power Company submits tariff filing per 35.12: Transmission Interconnection Agreement-Harry Allen to be effective 12/1/2010.

Filed Date: 10/01/2010.

Accession Number: 20101001-5304.

Comment Date: 5 p.m. Eastern Time on Friday, October 22, 2010.

Docket Numbers: ER11-18-000.

Applicants: Central Hudson Gas & Electric Corporation.

Description: Central Hudson Gas & Electric Corporation submits tariff filing per 35: CHG&E Rate Schedules & Service Agreements—Order 714, to be effective 10/5/2010.

Filed Date: 10/04/2010.

Accession Number: 20101004-5047.

Comment Date: 5 p.m. Eastern Time on Monday, October 25, 2010.

Docket Numbers: ER11-19-000.

Applicants: WSPP Inc.

Description: WSPP Inc. submits tariff filing per 35.13(a)(2)(iii) Revisions to List of Members in the WSPP Agreement Filing to be effective 8/17/2010.

Filed Date: 10/04/2010.

Accession Number: 20101004-5058.

Comment Date: 5 p.m. Eastern Time on Monday, October 25, 2010.

Docket Numbers: ER11-20-000.

Applicants: LP & T Energy LLC.

Description: LP and T Energy LLC submit notice of cancellation of Original Sheet No 1 et al to its FERC Electric Tariff, Original Volume No 1, effective 11/1/10 under ER11-20.

Filed Date: 10/01/2010.

Accession Number: 20101004-0201.

Comment Date: 5 p.m. Eastern Time on Friday, October 22, 2010.

Docket Numbers: ER11-21-000.

Applicants: Consolidated Edison Company of New York, Inc.

Description: Consolidated Edison Company of New York, Inc. submits tariff filing per 35: Compliance Filing (ER10-1955) to be effective 10/4/2010.

Filed Date: 10/04/2010.

Accession Number: 20101004-5145.

Comment Date: 5 p.m. Eastern Time on Monday, October 25, 2010.

Docket Numbers: ER11-22-000.

Applicants: Midwest Independent Transmission System Operator, Inc.

Description: Midwest Independent Transmission System Operator, Inc. submits tariff filing per 35.13(a)(2)(iii) H075 GIA to be effective 10/5/2010.

Filed Date: 10/04/2010.

Accession Number: 20101004-5193.

Comment Date: 5 p.m. Eastern Time on Monday, October 25, 2010.

Docket Numbers: ER11-23-000.

Applicants: Participating Transmission Owners Administrator.

Description: Filing Parties submits a request waiver of certain business practice standards in Version 002.1 of the Wholesale Electric Quadrant Adopted by the North American Energy Standards Board.

Filed Date: 10/04/2010.

Accession Number: 20101005-0200.

Comment Date: 5 p.m. Eastern Time on Monday, October 25, 2010.

Docket Numbers: ER11-24-000.

Applicants: New England Power Pool.

Description: The New England Power Pool Participants Committee submits transmittal letter along with the counterpart signature pages of the agreement dated 9/1/71 etc.

Filed Date: 10/01/2010.

Accession Number: 20101005-0201.

Comment Date: 5 p.m. Eastern Time on Friday, October 22, 2010.

Docket Numbers: ER11-25-000.

Applicants: Avista Corporation.

Description: Avista Corporation submits tariff filing per 35.13(a)(2)(iii) Avista Corp OATT Service Agreement No. T-1084 to be effective 10/5/2010 under ER11-00025-000 Filing Type: 10

Filed Date: 10/05/2010.

Accession Number: 20101005-5068.

Comment Date: 5 p.m. Eastern Time on Tuesday, October 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please email FERCOnlineSupport@ferc.gov. or call (866) 208-3676 (toll free). For TTY, call (202) 502-8659.

Nathaniel J. Davis, Sr.,
Deputy Secretary.

[FR Doc. 2010-26040 Filed 10-14-10; 8:45 am]

BILLING CODE 6717-01-P